DEPARTMENT OF ENERGY

Federal Energy Regulatory Commission

[Docket No. RP01-511-000]

Florida Gas Transmission Company; Notice of Filing of Restated Annual Reports

August 29, 2001.

Take notice that on August 17, 2001, Florida Gas Transmission Company (FGT) tendered for filing restated Annual Reports of system balancing activities.

FGT states that the restated reports are being filed to correct an error resulting from a change in the method of resolving fuel imbalance and to reflect the current reporting methodology. FGT states that the restatements result in a net improvement in the balancing tools position of $759,572. FGT is requesting waiver of the provisions of Section 19.1. B of the General Terms and Conditions of its FERC Gas Tariff in order to offset additional excess revenues identified in the restatement to the cumulative unrecovered cost balance at the end of the latest reporting period.

Any person desiring to be heard or to protest said filing should file a motion to intervene or a protest with the Federal Energy Regulatory Commission, 888 First Street, N.E., Washington, D.C. 20426, in accordance with Sections 385.214 or 385.211 of the Commission's Rules and Regulations. All such motions or protests must be filed on or before September 5, 2001. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-22223 Filed 9-4-01; 8:45 am]

BILLING CODE 6717-01-M